DEPARTMENT OF HEALTH AND HUMAN SERVICES

National Institutes of Health

National Human Genome Research Institute; Notice of Meeting

Pursuant to section 10(d) of the Federal Advisory Committee Act, as amended (5 U.S.C. App.), notice is hereby given of a meeting of the National Advisory Council for Human Genome Research.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Human Genome Research.

Date: September 9-10, 2013.

Closed: September 09, 2013, 8:30 a.m. to 10:00 a.m.

Agenda: To review and evaluate grant applications and/or proposals.

Place: National Institutes of Health, Terrace Level Conference Room, 5635 Fishers Lane, Rockville, MD 20892.

Open: September 09, 2013, 10:00 a.m. to 4:00 p.m.

Agenda: To discuss matters of program relevance.

Place: National Institutes of Health, Terrace Level Conference Room, 5635 Fishers Lane, Rockville, MD 20892.

Closed: September 10, 2013, 8:00 a.m. to 3:00 p.m.

Agenda: To review and evaluate grant applications and/or proposals.

Place: Smithsonian National Museum of Natural History, 10th Street & Constitution Avenue NW., Washington, DC 20560.

Contact Person: Comfort Browne, Program Assistant, Division of Extramural Research, National Human Genome Research Institute, 5635 Fishers Lane, Room 4076, Rockville, MD 20892-9305, 301-496-7531, cbrowne@mail.nih.gov.

Any interested person may file written comments with the committee by forwarding the statement to the Contact Person listed on this notice. The statement should include the name, address, telephone number and when applicable, the business or professional affiliation of the interested person.

Information is also available on the Institute's/Center's home page: http://www.genome.gov/11509849, where an agenda and any additional information for the meeting will be posted when available.

(Catalogue of Federal Domestic Assistance Program Nos. 93.172, Human Genome Research, National Institutes of Health, HHS)

Dated: July 31, 2013.
David Clary,
Program Analyst, Office of Federal Advisory Committee Policy.

[FR Doc. 2013-18894 Filed 8-5-13; 8:45 am]

BILLING CODE 4140-01-P